Title 3—

The President

Proclamation 9364 of November 5, 2015

Veterans Day, 2015

By the President of the United States of America

A Proclamation

The United States military is the strongest, most capable fighting force the world has ever known. The brave men and women of our Army, Navy, Air Force, Marine Corps, and Coast Guard demonstrate a resolute spirit and unmatched selflessness, and their service reminds us there are few things more American than giving of ourselves to make a difference in the lives of others. On Veterans Day, we reflect on the immeasurable burdens borne by so few in the name of so many, and we rededicate ourselves to supporting those who have worn America's uniform and the families who stand alongside them.

Our true strength as a Nation is measured by how we take care of our veterans when they return home, and my Administration is committed to ensuring our heroes and their loved ones have every chance to share in the promise they risked their lives to defend. We have made it easier for veterans to convert their military skills to the civilian workforce, enabled more veterans and their family members to attain Federal education benefits, and expanded access to timely, quality health care for all veterans. Just as every veteran deserves the support and benefits they have earned, those who have given everything to defend our homeland deserve a place of their own to call home. To uphold this ideal, First Lady Michelle Obama and Dr. Jill Biden's Joining Forces initiative has forged partnerships with local leaders across America to uphold the dignity of every veteran and work to end veterans' homelessness. No one who fights for our country should have to fight for the care they deserve. Earlier this year, I was proud to sign the Clay Hunt Suicide Prevention for American Veterans Act, which fills critical gaps in mental health care by raising awareness and taking steps to improve access to care for those suffering from the invisible wounds of war.

Our veterans left everything they knew and loved and served with exemplary dedication and courage so we could all know a safer America and a more just world. They have been tested in ways the rest of us may never fully understand, and it is our duty to fulfill our sacred obligation to our veterans and their families. On Veterans Day, and every day, let us show them the extraordinary gratitude they so rightly deserve, and let us recommit to pledging our full support for them in all they do.

With respect for, and in recognition of, the contributions our service members have made to the cause of peace and freedom around the world, the Congress has provided (5 U.S.C. 6103(a)) that November 11 of each year shall be set aside as a legal public holiday to honor our Nation's veterans.

NOW, THEREFORE, I, BARACK OBAMA, President of the United States of America, do hereby proclaim November 11, 2015, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this fifth day of November, in the year of our Lord two thousand fifteen, and of the Independence of the United States of America the two hundred and fortieth.

[FR Doc. 2015-28801

Filed 11-9-15; 11:15 am]

Billing code 3295-F6-P